DEPARTMENT OF COMMERCE

International Trade Administration

[C-533-894]

Forged Steel Fluid End Blocks From India: Final Results of Countervailing Duty Administrative Review; 2020-2021

AGENCY: Enforcement and Compliance, International Trade Administration, Department of Commerce.

SUMMARY: The U.S. Department of Commerce (Commerce) determines that countervailable subsidies were provided to Bharat Forge Limited (Bharat Forge), a producer and exporter of forged steel fluid end blocks (fluid end blocks) from India during the period of review (POR), May 26, 2020, through December 31, 2021.

DATES: Applicable July 27, 2023.

FOR FURTHER INFORMATION CONTACT: Nicholas Czajkowski, AD/CVD Operations, Office I, Enforcement and Compliance, International Trade Administration, U.S. Department of Commerce, 1401 Constitution Avenue NW, Washington, DC 20230; telephone: (202) 482-1395

SUPPLEMENTARY INFORMATION:

Background

On February 7, 2023, Commerce published the preliminary results of this administrative review in the Federal Register.¹ This review covers one mandatory respondent, Bharat Forge. From April 3 through April 7, 2023, we conducted an onsite verification of Bharat Forge's questionnaire responses. On April 25, 2023, we released the verification report and invited interested parties to comment on the Preliminary Results.² Between May 8 and 12, 2023, Bharat Forge, the Government of India (GOI), and the petitioners ³ submitted timely-filed case briefs.⁴ On May 19, Bharat Forge and the petitioners each submitted timely-filed rebuttal briefs.⁵ On June 5, 2023, Commerce extended the deadline for the final results of this administrative review to July 20, 2023.⁶ For a complete description of the events that occurred subsequent to the Preliminary Results, see the Issues and Decision Memorandum.⁷

¹ See Forged Steel Fluid End Blocks from India: Preliminary Results of Countervailing Duty Administrative Review; 2020-2021, 88 FR 7943 (March 3, 2023) (Preliminary Results), and accompanying Preliminary Decision Memorandum.

² See Memorandum, “Verification of the Questionnaire Responses of Bharat Forge Limited,” dated April 25, 2023; see also Memorandum, “Briefing Schedule,” dated May 1, 2023.

³ The petitioners are Ellwood City Forge Company, Ellwood Quality Steels Company, Ellwood National Steel Company, and A. Finkl & Sons.

⁴ See Bharat Forge's Letter, “Case brief,” dated May 12, 2023; GOI's Letter, “Case Brief,” dated May 8, 2022; and Petitioners' Letter, “Case Brief,” dated May 12, 2023.

⁵ See Bharat Forge's Letter, “Rebuttal Brief,” dated May 19, 2023; and Petitioners' Letter, “Rebuttal Brief,” dated May 19, 2023.

⁶ See Memorandum, “Extension of Deadline,” dated June 5, 2023.

⁷ See Memorandum, “Issues and Decision Memorandum for the Final Results of the Countervailing Duty Administrative Review of Forged Steel Fluid End Blocks from India; 2020-2021,” dated concurrently with, and hereby adopted by, this notice (Issues and Decision Memorandum).

Scope of the Order ⁸

⁸ See Forged Steel Fluid End Blocks from the People's Republic of China, the Federal Republic of Germany, India, and Italy: Countervailing Duty Orders, and Amended Final Affirmative Countervailing Duty Determination for the People's Republic of China, 86 FR 7535 (January 29, 2021) (Order).

The products covered by the scope of the Order are fluid end blocks. A full description of the scope of the Order is contained in the Issues and Decision Memorandum.

Analysis of Comments Received

All issues raised by the interested parties in their case and rebuttal briefs are addressed in the Issues and Decision Memorandum and are listed in the appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Changes Since the Preliminary Results

Based on our analysis of comments from interested parties and the evidence on the record, we revised the calculation of the net countervailable subsidy rates for Bharat Forge. For a discussion of the issues, see the Issues and Decision Memorandum.

Methodology

Commerce conducted this administrative review in accordance with section 751(a)(1)(A) of the Tariff Act of 1930, as amended (the Act). For each of the subsidy programs found to be countervailable, we find that there is a subsidy, i.e., a government-provided financial contribution that gives rise to a benefit to the recipient, and that the subsidy is specific.⁹ For a complete description of the methodology underlying all of Commerce's conclusions, including our reliance, in part, on facts otherwise available, including adverse facts available, pursuant to sections 776(a) and (b) of the Act, see the Issues and Decision Memorandum.

⁹ See sections 771(5)(B) and (D) of the Act regarding financial contribution; section 771(5)(E) of the Act regarding benefit; and section 771(5A) of the Act regarding specificity.

Final Results of Administrative Review

We determine that the net countervailable subsidy rate for the period May 26, 2020, through December 31, 2021, to be as follows:

Company | Subsidy rate (percent ad valorem) 2020 | Subsidy rate (percent ad valorem) 2021
Bharat Forge | 2.78 | 3.95

Cash Deposit Requirements

In accordance with section 751(a)(1) of the Act, Commerce also intends to instruct U.S. Customs and Border Protection (CBP) to collect cash deposits of estimated countervailing duties in the amounts shown above for the above-listed companies with regard to shipments of subject merchandise entered, or withdrawn from warehouse, for consumption on or after the date of publication of these final results of review. For all non-reviewed firms, we will instruct CBP to continue to collect cash deposits of estimated countervailing duties at the all-others rate or the most recent company-specific rate applicable to the company, as appropriate. These cash deposit requirements, effective upon publication of these final results, shall remain in effect until further notice.

Assessment Requirements

In accordance with section 751(a)(2)(C) of the Act and 19 CFR 351.212(b)(2), Commerce has determined, and CBP shall assess, countervailing duties on all appropriate entries covered by this review, for the above-listed companies at the applicable ad valorem assessment rates listed. Commerce intends to issue assessment instructions to CBP no earlier than 35 days after publication of the final results of this review in the Federal Register. If a timely summons is filed at the U.S. Court of International Trade, the assessment instructions will direct CBP not to liquidate relevant entries until the time for parties to file a request for a statutory injunction has expired (i.e., within 90 days of publication).

Disclosure

Commerce intends to disclose calculations and analysis performed for the final results of review within five days after the date of publication of this notice in the Federal Register in accordance with 19 CFR 351.224(b).

Administrative Protective Order

This notice also serves as a final reminder to parties subject to an administrative protective order (APO) of their responsibility concerning the disposition of proprietary information disclosed under APO in accordance with 19 CFR 351.305(a)(3). Timely written notification of the return or destruction of APO materials or conversion to judicial protective order, is hereby requested. Failure to comply with the regulations and terms of an APO is a sanctionable violation.

Notification to Interested Parties

The final results are issued and published in accordance with sections 751(a)(1) and 777(i)(1) of the Act, and 19 CFR 351.221(b)(5).

Dated: July 20, 2023.
Lisa W. Wang,
Assistant Secretary for Enforcement and Compliance.

Appendix

List of Topics Discussed in the Issues and Decision Memorandum

I. Summary

II. Background

III. Scope of the Order

IV. Subsidies Valuation Information

V. Use of Facts Otherwise Available and Application of Adverse Inferences

VI. Analysis of Programs

VII. Discussion of the Issues

Comment 1: Whether the Duty Drawback (DDB) Scheme Is Countervailable

Comment 2: Whether Commerce Should Revise Its DDB Benefit Calculation

Comment 3: Whether the Remission of Duties and Taxes on Export Products (RODTEP) Program Is Countervailable

Comment 4: Whether Bharat Forge's Export Promotion of Capital Goods Scheme (EPCGS) Information Submitted to Commerce Is Complete and Accurate

Comment 5: Whether Bharat Forge Benefitted from the Interest Equalization Scheme (IES) during the POR

VIII. Recommendation

[FR Doc. 2023-15948 Filed 7-26-23; 8:45 am]

BILLING CODE 3510-DS-P